DEPARTMENT OF COMMERCE

International Trade Administration

[A-570-954]

Certain Magnesia Carbon Bricks From the People's Republic of China: Final Results and Final Partial Rescission of the Antidumping Duty Administrative Review; 2012-2013

AGENCY: Enforcement and Compliance, International Trade Administration, Department of Commerce.

SUMMARY: The Department of Commerce (the “Department”) published the Preliminary Results of the third administrative review of the antidumping duty order on certain magnesia carbon bricks from the People's Republic of China (“PRC”) on October 9, 2014.¹ We gave interested parties an opportunity to comment on the Preliminary Results. Based upon our analysis of the comments received, we made no change to the Preliminary Results. The final weighted-average dumping margins are listed below in the “Final Results of Administrative Review” section of this notice. The period of review (“POR”) is September 1, 2012, through August 31, 2013.

¹ See Certain Magnesia Carbon Bricks from the People's Republic of China: Preliminary Results and Partial Rescission of the Antidumping Duty Administrative Review; 2012-2013, 79 FR 61052 (October 9, 2014) (“Preliminary Results”), and accompanying Preliminary Decision Memorandum.

DATES: Effective date: April 14, 2015.

FOR FURTHER INFORMATION CONTACT: Jerry Huang, AD/CVD Operations, Office V, Enforcement and Compliance, International Trade Administration, Department of Commerce, 14th Street and Constitution Avenue NW., Washington, DC 20230; telephone: (202) 482-4047.

SUPPLEMENTARY INFORMATION:

Background

On October 9, 2014, the Department published the Preliminary Results. On November 10, 2014, the Department received a case brief from Resco Products, Inc. (“Petitioner”) and Magnesita Refractories Company, a domestic interested party.

Scope of the Order

The merchandise subject to the order includes certain magnesia carbon bricks. Certain magnesia carbon bricks that are the subject of this order are currently classifiable under subheadings 6902.10.1000, 6902.10.5000, 6815.91.0000, 6815.99.2000 and 6815.99.4000 of the Harmonized Tariff Schedule of the United States (“HTSUS”). Although the HTSUS subheadings are provided for convenience and customs purposes, the written description of the merchandise is dispositive.²

² For a full description of the scope of the Order, see Memorandum from Gary Taverman, Associate Deputy Assistant Secretary, AD/CVD Operations, to Paul Piquado, Assistant Secretary for Enforcement and Compliance, “Issues and Decision Memorandum for the Final Results of Third Antidumping Duty Administrative Review: Certain Magnesia Carbon Bricks from the People's Republic of China,” (“I&D Memo”) dated concurrently with these results and hereby adopted by this notice.

Analysis of Comments Received

We addressed all issues raised in the case brief by parties in this review in the Decision Memo. A list of issues included in the Decision Memo is attached as Appendix I to this notice. The Decision Memo is a public document and it is available electronically via Enforcement and Compliance's Antidumping and Countervailing Duty Centralized Electronic Service System (“ACCESS”). ACCESS is available to registered users at http://access.trade.gov, and it is available to all parties in the Central Records Unit (“CRU”), Room 7046 of the main Department of Commerce building. In addition, the Decision Memo can be accessed directly on Enforcement and Compliance's Web site at http://enforcement.trade.gov/frn/index.html. The signed Decision Memo and the electronic version of the Decision Memo are identical in content.

Final Partial Rescission of the Administrative Review

In the Preliminary Results, the Department indicated its intention to rescind this review with respect to Fedmet Resources Corporation (“Fedmet”), based on Fedmet's statement and supplemental information that it is a U.S. importer, not a PRC producer.³ Subsequent to the Preliminary Results, no information was submitted on the record contrary to Fedmet's claim, and no party provided written arguments regarding this issue. Thus, we are rescinding this review with respect to Fedmet, and Fedmet's entries will be subject to the appropriate exporter's cash deposit requirements and assessment rates, as outlined below.

³ See Preliminary Results, 79 FR 61053.

Final Determination of No Shipments

As noted in the Preliminary Results, Fengchi Imp. and Exp. Co., Ltd. of Haicheng City (“Fengchi”) submitted a timely-filed certification that it had no shipments of subject merchandise to the United States during the POR. Thus, we preliminarily determined that Fengchi had no shipments of subject merchandise during the POR.⁴ We received no contradictory information from CBP indicating that there were suspended entries of subject merchandise into the United States exported by Fengchi. Accordingly, for the final results we continue to find that Fengchi had no shipments of subject merchandise, and it will retain its separate-rate status which was in effect at the initiation of this administrative review.⁵ Consistent with our assessment clarification, the Department will issue appropriate instructions to CBP based on our final results.⁶

⁴ Id.

⁵ Fengchi's no shipments certification also applied to Fengchi Refractories Co., of Haicheng City; however, that company did not previously qualify for a separate rate and remains subject to the cash deposit requirements for the PRC-Wide Entity as discussed below. See letter to the Department from Fengchi, “Magnesia Carbon Bricks from China Case No. A-570-954: No Shipments Letter,” dated January 2, 2014.

⁶ See Non-Market Economy Antidumping Proceedings: Assessment of Antidumping Duties, 76 FR 65694 (October 24, 2011) (“Assessment Practice Refinement”); see also the “Assessment” section of this notice, below.

PRC-Wide Entity

In the Preliminary Results, for the PRC-Wide Entity, the Department assigned the rate of 236 percent, the only rate ever determined for the PRC-Wide Entity in this proceeding.⁷ Because this rate is the same as the rate for the PRC-Wide Entity from previous completed segments in this proceeding and nothing on the record of the instant review calls into question the reliability of this rate, we find it appropriate to continue to apply a rate of 236 percent to the PRC-Wide Entity.⁸

⁷ See Preliminary Results, and accompanying Preliminary Decision Memorandum at 4.

⁸ See, e.g., Certain Steel Threaded Rod from the People's Republic of China: Final Determination of Sales at Less Than Fair Value, 74 FR 8907, 8910 (February 27, 2009).

Further, in the Preliminary Results, the Department determined that those companies which did not demonstrate eligibility for a separate rate are properly considered part of the PRC-Wide Entity.⁹ Since the Preliminary Results, none of these companies submitted comments regarding these findings. Therefore, we continue to treat these companies as part of the PRC-Wide Entity.¹⁰

⁹ See Preliminary Results, and accompanying Preliminary Decision Memorandum at 4.

¹⁰ For a list of companies that are subject to this administrative review as part of the PRC-Wide Entity, see Appendix II to this notice.

Additionally, in the Preliminary Results, for 155 companies, the Department found that, while the request for review had been withdrawn, none of these companies was eligible for a separate rate at the time of the initiation of this review. Accordingly, these 155 companies will continue to be considered part of the PRC-Wide Entity, which remained under review for the Preliminary Results.¹¹ Thus, the Department did not rescind the review for any of these 155 companies in the Preliminary Results.¹² Since the Preliminary Results, no party has presented information to the contrary, and, thus, these 155 companies continue to be considered as part of the PRC-Wide Entity, which remains under review for the final results.¹³

¹¹ See Preliminary Results, 79 FR 61503.

¹² See, e.g., Narrow Woven Ribbons With Woven Selvedge From the People's Republic of China: Preliminary Results and Partial Rescission of Antidumping Duty Administrative Review, 77 FR 47363, 47365 (August 8, 2012), unchanged in Narrow Woven Ribbons With Woven Selvedge From the People's Republic of China: Final Results of Antidumping Duty Administrative Review; 2010- 2011, 78 FR 10130 (February 13, 2013). A change in practice with respect to the conditional review of the PRC-wide entity is not applicable to this administrative review. See Antidumping Proceedings: Announcement of Change in Department Practice for Respondent Selection in Antidumping Duty Proceedings and Conditional Review of the Nonmarket Economy Entity in NME Antidumping Duty Proceedings, 78 FR 65964, 65969-70 (November 4, 2013).

¹³ For a list of companies that are subject to this administrative review as part of the PRC-Wide Entity, see Appendix II to this notice.

Final Results of Review

The Department preliminarily determines that the following weighted-average dumping margins exist for the period September 1, 2012, through August 31, 2013:

Exporter | Weighted-average dumping margin (percent)
PRC-Wide Entity | 236.00

Assessment

Upon issuance of the final results, the Department will determine, and CBP shall assess, antidumping duties on all appropriate entries, in accordance with 19 CFR 351.212. The Department intends to issue assessment instructions to CBP 15 days after the date of publication of the final results of review. For all appropriate entries exported by the PRC-Wide Entity, the Department will instruct CBP to liquidate these entries at an antidumping assessment rate of 236.00 percent.

Cash Deposit Requirements

The following cash deposit requirements will be effective upon publication of the final results of this review for shipments of the subject merchandise from the PRC entered, or withdrawn from warehouse, for consumption on or after the publication date of these final results, as provided by sections 751(a)(2)(C) of the Act: (1) For previously investigated or reviewed PRC and non-PRC exporters that are eligible for a separate rate from a prior completed segment of this proceeding, the cash deposit rate will continue to be the existing exporter-specific rate; (2) for all PRC exporters of subject merchandise that have not been found to be eligible for a separate rate, the cash deposit rate will be the rate for the PRC-Wide Entity; and (3) for all non-PRC exporters of subject merchandise which are not eligible for a separate rate, the cash deposit rate will be the rate applicable to the PRC exporter that supplied that non-PRC exporter. These deposit requirements, when imposed, shall remain in effect until further notice.

Notifications

This notice also serves as a final reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

In accordance with 19 CFR 351.305(a)(3), this notice also serves as a reminder to parties subject to administrative protective order (“APO”) of their responsibility concerning the return or destruction of proprietary information disclosed under APO, which continues to govern business proprietary information in this segment of the proceeding. Timely written notification of the return or destruction of APO materials, or conversion to judicial protective order, is hereby requested. Failure to comply with the regulations and terms of an APO is a violation which is subject to sanction.

These final results are issued and published in accordance with sections 751(a)(1) and 777(i)(1) of the Act.

Dated: April 7, 2015.
Paul Piquado,
Assistant Secretary for Enforcement and Compliance.

Appendix I

Issues and Decision Memorandum

I. Summary

II. Background

III. Scope of the Order

IV. Discussion of the Issues

(1) Whether the Department Should Limit CBP Data Query to Suspended AD/CVD Entries

(2) Whether the Department Should Issue Q&V Questionnaires to All Companies Under Review

(3) Whether Identifying Misclassified Entries Falls Under the Department's Authority

V. Conclusion

Appendix II

Companies Subject to the Administrative Review that Are Part of the PRC-Wide Entity

1. ANH (Xinyi) Refractories Co. Ltd.

2. Anyang Rongzhu Silicon Industry Co., Ltd.

3. Barsan Global Lojistik Ve Gum. Mus.

4. Bayuquan Refractories Co., Ltd.

5. Beijing Tianxing Ceramic Fiber Composite Materials Corp.

6. Benxi Iron & Steel (Group) International Economic & Trading Co.

7. Changxing Magnesium Furnace Charge Co., Ltd.

8. Changxing Wangfa Architectural & Metallurgical Materials Co., Ltd.

9. Changzing Zhicheng Refractory Material Factory.

10. China Metallurgical Raw Material Beijing Company.

11. China Quantai Metallurgical (Beijing) Engineering & Science Co., Ltd.

12. Chosun Refractories.

13. Cimm Group of China.

14. CNBM International Corporation.

15. Dalian Cerax Co., Ltd.

16. Dalian Dalmond Trading Co., Ltd.

17. Dalian F.T.Z. Huaxin International.

18. Dalian F.T.Z. Maylong Resources Co., Ltd.

19. Dalian Huayu Refractories International Co., Ltd.

20. Dalian LST Metallurgy Co., Ltd.

21. Dalian Masoo International Trading.

22. Dalian Mayerton Refractories Ltd.

23. Dalian Morgan Refractories Ltd.

24. Dashiqiao Bozhong Mineral Products Co., Ltd.

25. Dashiqiao City Magnesite.

26. Dashiqiao City Guangcheng Refractory Co., Ltd.

27. Dashiqiao Jia Sheng Mining Co., Ltd.

28. Dashiqiao Jinlong Refractories Co., Ltd.

29. Dashiqiao RongXing Refractory Material Co., Ltd.

30. Dashiqiao Sanqiang Refractory Material Co., Ltd.

31. Dashiqiao Yutong Packing Factory.

32. Dashiqiao Zhongjian Magnesia.

33. Dengfeng Desheng Refractory Co., Ltd.

34. DFL Minmet Refractories Corp.

35. Duferco SA.

36. Duferco BarInvest SA Beijing Office.

37. Duferco Ironet Shanghai Representative Office.

38. Eastern Industries & Trading Co., Ltd.

39. Far Horizon Trading Limited.

40. Fengchi Mining Co., Ltd of Haicheng City.

41. Fengchi Refractories Co., of Haicheng City.

42. Fengchi Refractories Corp.

43. Ferro Alliages & Mineraux Inc.

44. Firma.

45. Haicheng City Qunli Mining Co., Ltd.

46. Haicheng City Xiyang Import & Export Corporation.

47. Haicheng Donghe Taidi Refractory Co., Ltd.

48. Haicheng Ruitong Mining Co., Ltd.

49. Haiyuan Talc Powder Manufacture Factory.

50. Henan Boma Co. Ltd.

51. Henan Kingway Chemicals Co., Ltd.

52. Henan Tagore Refractories Co., Ltd.

53. Henan Xinmi Changzxing Refractories, Co., Ltd.

54. Hebei Qinghe Refractory Group Co. Ltd.

55. Huailin Refractories (Dashiqiao) Pte. Ltd.

56. Hualude Hardware Products Co. Ltd.

57. Indian Technomac Co., Ltd.

58. Jfe Refractories Corporation.

59. Jiangsu Sujia Group New Materials Co., Ltd.

60. Jiangsu Sujia Joint-Stock Co., Ltd.

61. Jinan Forever Imp. & Emp. Trading Co., Ltd.

62. Jinan Linquan Imp. & Emp. Co. Ltd.

63. Jinan Ludong Refractory Co., Ltd.

64. Kosmokraft Refractory Limited.

65. Kuehne & Nagel Ltd. Dalian Branch Office.

66. Kumas Sanayi Urunleri Ve Insaat Paz.

67. Lechang City Guangdong Province SongXin Refractories Co., Ltd.

68. Liaoning Fucheng Refractories Group Co., Ltd.

69. Liaoning Fucheng Special Refractory Co., Ltd.

70. Liaoning Jiayi Metals & Minerals Ltd.

71. Liaoning Jinding Magnesite Group.

72. Liaoning Mayerton Refractories Co., Ltd.

73. Liaoning Mineral & Metallurgy Group Co., Ltd.

74. Liaoning Qunyi Group Refractories Co., Ltd.

75. Liaoning Qunyi Trade Co., Ltd.

76. Liaoning RHI Jinding Magnesis Co., Ltd.

77. Liaoning Zhongxing Mining Industry Group Co., Ltd.

78. LiShuang Refractory Industrial Co., Ltd.

79. Lithomelt Co., Ltd.

80. Lua Viet Bestref Joint Venture Co.

81. Luheng Refractory Co., Ltd.

82. Luoyang Refractory Group Co., Ltd.

83. Mayerton Refractories.

84. Minsource International Ltd.

85. Minteq International Inc.

86. National Minerals Co., Ltd.

87. Navis Zufall Ueberseespeditions.

88. North Refractories Co., Ltd.

89. Orestar Metals & Minerals Co., Ltd.

90. Oreworld Trade (Tangshan) Co., Ltd.

91. Puyang Refractories Co., Ltd.

92. Qingdao Almatis Co., Ltd. (HQ).

93. Qingdao Almatis Co., Ltd. (Manufacturing).

94. Qingdao Almatis Trading Co., Ltd. (Sales Office).

95. Qingdao Blueshell Import & Emport Corp.

96. Qingdao Fujing Group Co., Ltd.

97. Qingdao Huierde International Trade Co., Ltd.

98. Refratechnik Cement GmbH.

99. Refratechnik Steel GmbH.

100. RHI AG.

101. RHI GLAS GmbH.

102. RHI Refractories Asia Pacific Pte. Ltd.

103. RHI Refractories (Dalian) Co., Ltd.

104. RHI Trading Shanghai Branch.

105. RHI Trading (Dalian) Co., Ltd.

106. Rongyuan Magnesite Co., Ltd. of Dashiqiao City.

107. Shandong Cambridge International Trade Inc.

108. Shandong Lunai Kiln Refractories Co., Ltd.

109. Shandong Refractories Corp.

110. Shanghai Pudong Imp. & Exp. Co. Ltd.

111. Shanghai Vista Packaging Co., ltd.

112. Shanxi Dajin International (Group) Co., Ltd.

113. Shanxi Xinrong International Trade Co. Ltd.

114. Shenyang Shenghui Refractory Imp.

115. Shenyang Yi Xin Sheng Lai Refractory Materials Co., Ltd.

116. Shinagawa Refractories Co., Ltd.

117. Shinagawa Rongyuan Refractories Co., Ltd.

118. Sinosteel Corporation.

119. SMMC Group Co., Ltd.

120. Store System Inc. O B Dongning Shunf.

121. Syndicate Exp. Pvt., Ltd.

122. Tangshan Success Import & Export Trading Co., Ltd.

123. Tianjin New Century Refractories, Ltd.

124. Tianjin New World Import & Export Trading Co., Ltd.

125. Tianjin Weiyuan Refractory Co., Ltd.

126. The Economic Trading Group of Haicheng Huoying Corporation Ltd.

127. Vereeniging Refractories (Pty).

128. Vesuvius Advanced Ceramics (Suzhou) Co. Ltd.

129. Wonjin Refractories Co., Ltd.

130. Wuxi Tian Liang Foreign Trade Co., Ltd.

131. Xiyuan Xingquan Forsterite Co., Ltd.

132. Yanshi City Guangming High-Tech Refractories Products Co., Ltd.

133. YHS Minerals Co., Ltd.

134. Yingkou Bayuquan Refractories Co., Ltd.

135. Yingkou Bl Mining Co., Ltd.

136. Yingkou Dalmond Refractories Co., Ltd.

137. Yingkou Guangyang Refractories Co., Ltd.

138. Yingkou Guangyang Refractories Co., Ltd. (YGR).

139. Yingkou Heping Samwha Minerals Co., Ltd.

140. Yingkou Jiahe Refractories Co., Ltd.

141. Yingkou Jinlong Refractories Group.

142. Yingkou Kyushu Refractories Co., Ltd.

143. Yingkou Qinghua Group Imp. & Emp. Co., Ltd.

144. Yingkou Qinghua Refractories Co., Ltd.

145. Yingkou Sanhua Refractory Materials Co., Ltd.

146. Yingkou Tianrun Refractory Co.,Ltd.

147. Yingkou Wonjin Refractory Material Co., Ltd.

148. Yingkou Yongji Mag Refractory, Ltd.

149. Yixing Runlong Trade Co., Ltd.

150. Yixing Xinwei Leeshing Refractory Material Co., Ltd.

151. Yixing Zhenqiu Charging Ltd.

152. Zhejiang Changxing Guangming Special Refractory Material Foundry, Co., Ltd.

153. Zhejiang Deqing Jinlei Refractory Co., Ltd.

154. Zhejiang Huzhou Fuzilin Refractory Metals Group Co., Ltd.

155. Zhengzhou Annec Industrial Co., Ltd.

156. Zhengzhou Huachen Refractory Co., Ltd.

157. Zhengzhou Huawei Refractories Co., Ltd.

158. Zibo Lianzhu Refractory Materials Co., Ltd.

[FR Doc. 2015-08591 Filed 4-13-15; 8:45 am]

BILLING CODE 3510-DS-P